DEPARTMENT OF HEALTH AND HUMAN SERVICES

National Institutes of Health

Office of the Director, National Institutes of Health; Amended Notice of Meeting

Notice is hereby given of a change in the meeting of the Advisory Committee on Research on Women's Health, April 21, 2020, 09:00 a.m. to April 21, 2020, 05:00 p.m., National Institutes of Health, Building 35A, 8600 Rockville Pike, Bethesda, MD, 20892 which was published in the Federal Register on March 02, 2020, 85 FR 12310.

The meeting notice is amended to change the meeting location and format. The meeting will now be held as a teleconference at the National Institutes of Health, 6707 Democracy Blvd., Room 7W444, Bethesda, MD 20817. The meeting is open to the public.

Dated: March 17, 2020.
Miguelina Perez,
Program Analyst, Office of Federal Advisory Committee Policy.

[FR Doc. 2020-05965 Filed 3-20-20; 8:45 am]

BILLING CODE 4140-01-P